DEPARTMENT OF TRANSPORTATION

Federal Railroad Administration

[Docket Number FRA-2019-0055]

Petition for Waiver of Compliance

Under part 211 of title 49 Code of Federal Regulations (CFR), this provides the public notice that by letter dated May 22, 2019, the Belt Railway Company of Chicago (BRC) petitioned the Federal Railroad Administration (FRA) for a waiver of compliance from certain provisions of the Federal railroad safety regulations contained at 49 CFR 234.309, ENS signs in general, and 49 CFR 234.311, ENS sign placement and maintenance. FRA assigned the petition Docket Number FRA-2019-0055.

Specifically, BRC requests relief from the requirement to replace signage under §§ 234.309 and 234.311, pending the successful conclusion of two 49 CFR part 236 block signal applications (BSAP) (see Docket Numbers FRA-2019-0039 and FRA-2019-0010). Access to the subject track is either over Bridge 710 on Canadian National Railway's (CN) Lakefront Subdivision or via access from BRC's Kenton Line. BSAPs were filed by both BRC and CN based on lack of traffic and upgrades that will render this trackage entirely inaccessible for train traffic. There is currently no rail service on this track, and no plan to restore service.

This single industrial track includes no sidings or auxiliary tracks and runs parallel to Harbor Avenue and South Lake Shore Drive. There are five private highway-rail grade crossings (HRGC) and one public HRGC on the route:

(1) DOT #869205W—milepost (MP) 0.29—Private;

(2) DOT #869206D—MP 0.52—Ewing Avenue;

(3) DOT #869207K—MP 0.53—Private;

(4) DOT #869208S—MP 0.63—Private;

(5) DOT #869209Y—MP 0.65—Private; and

(6) DOT #869210T—MP 0.71—Private.

A copy of the petition, as well as any written communications concerning the petition, is available for review online at www.regulations.gov and in person at the U.S. Department of Transportation's Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 21, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.transportation.gov/privacy. See also http://www.regulations.gov/#!privacyNotice for the privacy notice of regulations.gov.

Issued in Washington, DC.
John Karl Alexy,
Associate Administrator for Railroad Safety, Chief Safety Officer.

[FR Doc. 2019-19170 Filed 9-4-19; 8:45 am]

BILLING CODE 4910-06-P